DEPARTMENT OF JUSTICE

Notice of Lodging of Proposed Consent Decree Under The Clean Water Act

On July 7, 2020, the Department of Justice lodged a proposed Consent Decree with the United States District Court for the District of Nebraska in the lawsuit entitled United States and State of Nebraska v. Henningsen Foods, Inc., Civil Action No. 8:20-cv-00269.

The United States filed this lawsuit under the Clean Water Act. The United States' complaint seeks penalties and injunctive relief for violations of the Clean Water Act's pre-treatment regulations and the defendant's Nebraska Pre-Treatment Program Permit at the defendant's David City, Iowa egg-processing facility from January 2014 to the date of lodging. The proposed Consent Decree requires the defendant to pay a civil penalty of $827,500 and to implement injunctive relief measures including operation and maintenance of an upgraded pH basin, increased monitoring of and limits on pH in effluent discharges, continued funding of a new anaerobic lagoon at the David City POTW, and implementation of an operations, maintenance, and training program for the defendant's employees. The proposed Consent Decree resolves the United States' claims alleged in the complaint through the date of lodging.

The publication of this notice opens a period for public comment on the proposed Consent Decree. Comments should be addressed to the Assistant Attorney General, Environment and Natural Resources Division, and should refer to United States and State of Nebraska v. Henningsen Foods, Inc., D.J. Ref. No. 90-5-1-1-11936. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://;www.justice.gov/enrd/consent-decrees. We will provide a paper copy of the Consent Decree upon written request and payment of reproduction costs. Please mail your request and payment to:

Consent Decree Library, U.S. DOJ—ENRD, P.O. Box 7611, Washington, DC 20044-7611.

Please enclose a check or money order for $24.75 (25 cents per page reproduction cost) payable to the United States Treasury. For a paper copy without the exhibits and signature pages, the cost is $9.75.

Susan M. Akers,
Assistant Section Chief, Environmental Enforcement Section, Environment and Natural Resources Division.

[FR Doc. 2020-14975 Filed 7-10-20; 8:45 am]

BILLING CODE 4410-15-P